DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency (FEMA), as part of its continuing effort to reduce paperwork and respondent burden, invites the general public and other Federal agencies to take this opportunity to comment on a proposed new information collection. In accordance with the Paperwork Reduction Act of 1995 (44 U.S.C. 3506(c)(2)(A)), this notice seeks comments on the National Disaster Medical System (NDMS) Credential File and Database Tracking System. This system will be used to collect data through an on-line application for the purpose of verifying credentials, licenses, and accreditation of health professional volunteers.

SUPPLEMENTARY INFORMATION: The information collection will be conducted pursuant to the requirements of Public Law 107-188, The Public Health Security and Bioterrorism Preparedness and Response Act of 2002 (42 U.S.C. Section 247d-7b) and Title III of the Public Health Act, Section 107, Emergency System for Advance Registration of Health Professions Volunteers (Part B of Title III, as amended by Sections 319 H and 319 I, Emergency System for Verification of Credentials of Health Professions Volunteers). Congress has mandated that FEMA establish a credentialing program and system to ensure that all health care professionals who volunteer for participation in the NDMS are credentialed, accredited, and licensed.

Collection of Information

Title: National Disaster Medical System (NDMS) Credential File and Database Tracking System.

OMB Number: 1660-NEW3.

Form Numbers: E-Form 90-136, Office of Emergency Response Credentialing System On-Line Application.

Abstract: FEMA will collect information conducive to the verification and credentialing of volunteer health care providers for the NDMS. The credentialing process is aimed at securing a qualified and competent medical response force. Participation is voluntary. However, refusal by a team member or an applicant to provide personal, educational, and training information will result in their credentials not being verified and authenticated, thus rendering them ineligible to serve.

Affected Public: Individuals and households—volunteer individuals in health care and related occupations.

Estimated Total Annual Burden Hours: 13,584.

FEMA forms | No. of respondents (A) | Frequency of response (B) | Hours per response (C) | Annual burden hours (A × B × C)
On-line | 750 Medical Doctors | 1 | 3 | 2,250
On-line | 5,667 Others | 1 | 2(¹) | 11,334
Total | 6,417 | 1 |  | 13,584
(¹) Average of 1-3 hours based on occupation-specific requested information.

Estimated Cost to Respondents: There is no capital or start-up cost to respondents resulting from this information collection other than the wage rate equivalent for time spent filling out the application form. Based on a pay scale ranging from GS-05 to GS-15 and average completion time of 2.5 hours, the cost per respondent to provide the information averages $34 per hour. The total estimated annual cost to respondents for this information collection is $461,856.

Estimated Cost to the Agency: $1.48 million over a 3-year period, which averages $493,333 per year.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be received on or before April 26, 2004.

ADDRESSES: Interested persons should submit written comments on the proposed information collection to Muriel B. Anderson, Chief, Records Management Branch, FEMA at 500 C Street, SW., Room 316, Washington, DC 20472, facsimile number (202) 646-3347, or email address InformationCollections@fema.gov.

FOR FURTHER INFORMATION CONTACT: Contact CAPT Ana Marie Balingit-Wines, Credentialing Program Manager, FEMA/NDMS at 301-443-2057. You may contact Ms. Anderson for copies of the proposed information collection (see addressee information above).

Dated: February 10, 2004.
Edward W. Kernan,
Division Director, Information Resources Management Division, Information Technology Services Directorate.

[FR Doc. 04-3896 Filed 2-23-04; 8:45 am]

BILLING CODE 9110-09-P